DEPARTMENT OF HEALTH AND HUMAN SERVICES

Centers for Disease Control and Prevention

Advisory Committee on Immunization Practices, Smallpox Working Group: Meeting

In accordance with section 10(a)(2) of the Federal Advisory

Committee Act (Pub. L. 92-463), the Centers for Disease Control and Prevention (CDC) announces the following committee meeting:

Name: Advisory Committee on Immunization Practices, Smallpox

Working Group.

Times and Dates: 1 p.m.-9 p.m., May 8, 2002; 8:30 a.m.-11:30 a.m., May 9, 2002.

Place: Atlanta Marriott Century Center, 2000 Century Boulevard, NE., Atlanta, Georgia 30345-3377.

Status: Open to the public, limited only by the space available.

Purpose: The working group will gather information, analyze research and formulate options to be presented to the Advisory Committee on Immunization Practices in order to make recommendations for the use of vaccinia (smallpox) vaccine.

Matters to be Discussed: The panel will review recommendations regarding the use of vaccinia (smallpox) vaccine.

Contact Person for More Information: Gloria A. Kovach, Program Analyst, Epidemiology and Surveillance Division, National Immunization Program, CDC, 1600 Clifton Road, NE, M/S E61, Atlanta, Georgia 30333. Telephone 404/639-8096.

The Director, Management Analysis and Services Office, has been delegated the authority to sign Federal Register notices pertaining to announcements of meetings and other committee management activities for both the Centers for Disease Control and Prevention and the Agency for Toxic Substances and Disease Registry.

Dated: April 8, 2002.
Alvin Hall,
Acting Director, Management Analysis and Services Office, Centers for Disease Control and Prevention.

[FR Doc. 02-9246 Filed 4-16-02; 8:45 am]

BILLING CODE 4163-18-P